DEPARTMENT OF COMMERCE

International Trade Administration

[A-552-816]

Welded Stainless Steel Pressure Pipe From the Socialist Republic of Vietnam: Preliminary Results and Partial Rescission of the Antidumping Duty Administrative Review; 2023-2024

AGENCY: Enforcement and Compliance, International Trade Administration, Department of Commerce.

SUMMARY: The U.S. Department of Commerce (Commerce) preliminarily determines that the Vietnam-wide entity made sales of welded stainless steel pressure pipe (WSSP) from the Socialist Republic of Vietnam (Vietnam) at less than normal value (NV) during the period of review (POR) July 1, 2023, through June 30, 2024. Additionally, Commerce intends to rescind the review, in part, with respect to five companies. Interested parties are invited to comment on the preliminary results of this review.

DATES: Applicable January 14, 2026.

FOR FURTHER INFORMATION CONTACT: Luke Caruso, AD/CVD Operations, Office IV, Enforcement and Compliance, International Trade Administration, U.S. Department of Commerce, 1401 Constitution Avenue NW, Washington, DC 20230; telephone: (202) 482-2081.

SUPPLEMENTARY INFORMATION:

Background

On July 21, 2014, Commerce published the Order on WSSP from Vietnam.¹ On August 14, 2024, pursuant to a timely request for review by the Felker Brothers Corporation and Primus Pipe & Tube, Inc. (collectively, the petitioners), Commerce published the notice of initiation of the ninth administrative review of the Order.² Commerce initiated this administrative review covering the following six exporters of subject merchandise: (1) Sonha International Corporation (Sonha International); (2) Mejonson Industrial Vietnam Co., Ltd. (Mejonson); (3) Sonha SSP Vietnam Sole Member Co. Limited (Sonha SSP); (4) Vinasteel Production Joint Stock Company (Vinasteel); (5) Vinlong Stainless Steel (Vietnam) Co., Ltd. (Vinlong); and (6) the Vietnam-wide Entity.³ On September 17, 2024, the petitioners withdrew their review requests for all exporters except for Mejonson, Vinasteel, and the Vietnam-wide entity.⁴

¹ See Welded Stainless Pressure Pipe from Malaysia, Thailand, and the Socialist Republic of Vietnam: Antidumping Duty Orders, 79 FR 42289 (July 21, 2014) (Order).

² See Initiation of Antidumping and Countervailing Duty Administrative Reviews, 89 FR 66035 (August 14, 2024) (Initiation Notice).

³ Id., 89 FR at 66041.

⁴ See Petitioners' Letter, “Partial Withdrawal of Request for Administrative Review,” dated September 17, 2024 (Petitioners' Withdrawal of Review Request).

On December 9, 2024, Commerce tolled the deadline to issue the preliminary results in this administrative review by 90 days.⁵ On June 16, 2025, we extended the deadline for the preliminary results of this administrative review until October 29, 2025.⁶ Due to the lapse in appropriations and Federal Government shutdown, on November 14, 2025, Commerce tolled all deadlines in administrative proceedings by 47 days.⁷ Additionally, due to a backlog of documents that were electronically filed via Enforcement and Compliance's Antidumping and Countervailing Duty Centralized Electronic Service System (ACCESS) during the Federal Government shutdown, on November 24, 2025, Commerce tolled all deadlines in administrative proceedings by an additional 21 days.⁸ Accordingly, the deadline for the preliminary results is now January 5, 2026.

⁵ See Memorandum, “Tolling of Deadlines for Antidumping and Countervailing Duty Proceedings,” dated December 9, 2024.

⁶ See Memorandum, “Extension of Time Limit for Preliminary Results,” dated June 16, 2025.

⁷ See Memorandum, “Deadlines Affected by the Shutdown of the Federal Government,” dated November 14, 2025.

⁸ See Memorandum, “Tolling of all Case Deadlines,” dated November 24, 2025.

For a complete description of the events that followed the initiation of this administrative review, see the Preliminary Decision Memorandum.⁹ A list of topics included in the Preliminary Decision Memorandum is included as an appendix to this notice. The Preliminary Decision Memorandum is a public document and is on file electronically via ACCESS. ACCESS is available to registered users at https://access.trade.gov. In addition, a complete version of the Preliminary Decision Memorandum can be found at https://access.trade.gov/public/FRNoticesListLayout.aspx.

⁹ See Memorandum, “Decision Memorandum for the Preliminary Results of Antidumping Duty Administrative Review: Welded Stainless Steel Pressure Pipe from the Socialist Republic of Vietnam; 2023-2024,” dated concurrently with, and hereby adopted by, this notice (Preliminary Decision Memorandum).

Scope of the Order

The merchandise covered by this Order is circular welded austenitic stainless pressure pipe, not greater than 14 inches in outside diameter, from Vietnam. A full description of the scope of the Order is contained in the Issues and Decision Memorandum.

Partial Rescission of Review

Pursuant to 19 CFR 351.213(d)(1), Commerce will rescind an administrative review, in whole or in part, if the parties that requested a review withdraw the request within 90 days of the date of the publication of the notice of initiation. We received the petitioners' timely withdrawal of the request for review, which stated that all requests for review of Sonha International, Sonha SSP, and Vinlong were fully withdrawn and that Commerce should, therefore, rescind this review with respect to these three companies.¹⁰ Accordingly, we find that all requests for review of Sonha International, Sonha SSP, and Vinlong were timely withdrawn within 90 days of the publication of the Initiation Notice, and we are rescinding this review with respect to these three companies, in accordance with 19 CFR 351.213(d)(1).

¹⁰ See Petitioners' Withdrawal of Review Request.

As noted above, we initiated this review with respect to six entities and the petitioners timely withdrew their request for a review of three of these entities, i.e., Sonha International, Sonha SSP, and Vinlong.¹¹ During the course of the review, we selected one mandatory respondent, i.e., the Vietnam-wide entity. Consequently, there are two companies upon which a review was requested, not withdrawn, and which were not selected for individual examination.

¹¹ See Initiation Notice; see also Petitioners' Withdrawal of Review Request.

Pursuant to 19 CFR 351.213(d)(3), Commerce will rescind an administrative review when there are no reviewable suspended entries. Based on our analysis of the U.S. Customs and Border Protection (CBP) information, the two remaining companies listed in the Initiation Notice (i.e., Mejonson and Vinasteel), for which the review request was not withdrawn, had no entries of subject merchandise during the POR.¹² On January 30, 2025, Commerce notified interested parties of our intent to rescind this administrative review, including these two companies.¹³ No interested party commented on our intent to rescind this administrative review with respect to Mejonson and Vinasteel. As such, Commerce is rescinding this review with respect to Mejonson and Vinasteel in accordance with 19 CFR 351.213(d)(3).

¹² See Initiation Notice at 66041; see also Memorandum, “Release of Customs Data from U.S. Customs and Border Protection,” dated September 11, 2024 (CBP Data Memorandum).

¹³ See Memorandum, “Notice of Intent to Rescind Review,” dated January 30, 2025.

The Vietnam-Wide Entity

Under Commerce's policy regarding the conditional review of the Vietnam-wide entity,¹⁴ the Vietnam-wide entity will not be under review unless a party specifically requests, or Commerce self-initiates, a review of the entity. The petitioners ¹⁵ requested a review of the Vietnam-wide entity in the instant review; therefore, the Vietnam-wide entity is under review.

¹⁴ See Antidumping Proceedings: Announcement of Change in Department Practice for Respondent Selection in Antidumping Duty Proceedings and Conditional Review of the Nonmarket Economy Entity in NME Antidumping Duty Proceedings, 78 FR 65963 (November 4, 2013).

¹⁵ See Petitioners' Letter, “Request for Administrative Review,” dated July 31, 2024.

Methodology

Commerce is conducting this administrative review in accordance with section 751(a)(1)(B) of the Tariff Act of 1930, as amended (the Act). Pursuant to section 776(a) and (b) of the Act, Commerce has preliminarily assigned a weighted average dumping margin to the Vietnam-wide entity based upon total facts otherwise available with adverse inferences. For a full description of the methodology underlying the preliminary results of this review, see the Preliminary Decision Memorandum.

Preliminary Results of Review

We preliminarily determine that the following estimated weighted-average dumping margin exists for the period July 1, 2023, through June 30, 2024:

Exporter | Weighted-average dumping margin (percent)
Vietnam-wide Entity | 90.80

Disclosure and Public Comment

Normally, Commerce discloses to parties to the proceeding the calculations performed in connection with a preliminary results of review within five days of any public announcement of the preliminary results or, if there is no public announcement, within five days of the date of publication of the notice of preliminary results of review in the Federal Register,in accordance with 19 CFR 351.224(b). However, because Commerce preliminarily applied a weighted-average dumping margin based on total adverse facts available (AFA) to the individually examined entity in this administrative review, in accordance with section 776 of the Act, and assigned an AFA rate equal to the highest margin alleged in the underlying petition, as listed in the Investigation Initiation,¹⁶ there are no calculations to disclose.

¹⁶ See Welded Stainless Pressure Pipe from Malaysia, Thailand, and the Socialist Republic of Vietnam: Initiation of Antidumping Duty Investigations, 78 FR 35253, 35257 (June 12, 2013) (Investigation Initiation).

Case briefs or other written comments may be submitted to the Assistant Secretary for Enforcement and Compliance. Pursuant to 19 CFR 351.309(c)(1)(ii), we have modified the deadline for interested parties to submit case briefs to Commerce to no later than 21 days after the date of publication of this notice.¹⁷ Rebuttal briefs, limited to issues raised in the case briefs, may be filed not later than five days after the date for filing case briefs.¹⁸ Parties who submit case briefs or rebuttal briefs in this review must submit: (1) a statement of the issue; and (2) a table of authorities.¹⁹ All briefs must be filed electronically using ACCESS. An electronically filed document must be received successfully in its entirety in ACCESS by 5:00 p.m. Eastern Time on the established deadline.

¹⁷ See 19 CFR 351.309.

¹⁸ See 19 CFR 351.309(d); see also Administrative Protective Order, Service, and Other Procedures in Antidumping and Countervailing Duty Proceedings, 88 FR 67069, 67077 (September 29, 2023) (APO and Service Final Rule).

¹⁹ See 19 CFR 351.309(c)(2) and (d)(2).

As provided under 19 CFR 351.309(c)(2)(iii) and (d)(2)(iii), we request that interested parties provide at the beginning of their briefs a public, executive summary for each issue raised in their briefs.²⁰ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²¹

²⁰ We use the term “issue” here to describe an argument that Commerce would normally address in a comment of the Issues and Decision Memorandum.

²¹ See APO and Service Final Rule.

Pursuant to 19 CFR 351.310(c), interested parties who wish to request a hearing must submit a written request to the Assistant Secretary for Enforcement and Compliance, filed electronically via ACCESS. Requests should contain: (1) the requesting party's name, address, and telephone number; (2) the number of individuals associated with the requesting party that will attend the hearing and whether any of those individuals is a foreign national; and (3) a list of the issues the party intends to discuss at the hearing. Issues raised in the hearing will be limited to those raised in the respective case briefs. If a request for a hearing is made, Commerce intends to hold the hearing at a time and date to be determined. Parties should confirm by telephone the date, time, and location of the hearing two days before the scheduled date. An electronically filed hearing request must be received successfully in its entirety by Commerce's electronic records system, ACCESS, by 5:00 p.m. Eastern Time within 30 days after the date of publication of this notice in the Federal Register.

Assessment Rates

Upon issuance of the final results, Commerce will determine, and CBP shall assess, antidumping duties on all appropriate entries covered by this review, in accordance with 19 CFR 351.212(b)(1). Commerce intends to issue assessment instructions to CBP no earlier than 35 days after the publication of the final results of this review in the Federal Register. If a timely summons is filed at the U.S. Court of International Trade, the assessment instructions will direct CBP not to liquidate relevant entries until the time for parties to file a request for a statutory injunction has expired (i.e., within 90 days of publication).

If Commerce continues to base the Vietnam-wide entity's weighted-average dumping margin upon total facts otherwise available, with adverse inferences, in the final results of this review, then Commerce will instruct CBP to assess antidumping duties at the rate determined in the final results of review the Vietnam-wide entity.

However, if the Vietnam-wide entity's final weighted-average dumping margin is not based on total facts otherwise available, with adverse inferences, Commerce intends to calculate the entity rate by dividing the total amount of dumping for reviewed sales to U.S. customers by the total quantity of sales by the Vietnam-wide entity. Commerce will calculate an estimated ad valorem entity-wide assessment rate to determine whether the per-unit assessment rate is de minimis; however, it will instruct CBP to apply the per-unit assessment rate.²²

²² See Final Modification, 77 FR at 8103.

Pursuant to a refinement to Commerce's assessment practice, for sales that were not reported in the U.S. sales database submitted by a respondent individually examined during this review, Commerce will instruct CBP to liquidate the entry of such merchandise at the dumping assessment rate assigned to the Vietnam-wide entity.²³

²³ For a full discussion of this practice, see Non-Market Economy Antidumping Proceedings: Assessment of Antidumping Duties, 76 FR 65694 (October 24, 2011).

For the companies for which this review is rescinded with these preliminary results, we will instruct CBP to assess antidumping duties on all appropriate entries at a rate equal to the cash deposit of estimated antidumping duties required at the time of entry, or withdrawal from warehouse, for consumption, during the POR, in accordance with 19 CFR 351.212(c)(l)(i). For the companies rescinded from review, Commerce intends to issue assessment instructions to CBP 35 days after the publication of this notice in the Federal Register.

In accordance with section 751(a)(2)(C) of the Act, the final results of this review shall be the basis for the assessment of antidumping duties on entries of merchandise covered by the final results of this review and for future deposits of estimated antidumping duties, where applicable.

Cash Deposit Requirements

The following cash deposit requirements will be effective upon publication of the final results of this administrative review for all shipments of the subject merchandise from Vietnam entered, or withdrawn from warehouse, for consumption on or after the date of publication of the notice of the final results of administrative review in the Federal Register, as provided for by section 751(a)(2)(C) of the Act: (1) for the companies that have a separate rate, the cash deposit rate will be that rate established in the final results of this review (except, if the rate is de minimis, then a cash deposit rate of zero will be required); (2) for previously investigated or reviewed Vietnamese and non-Vietnamese exporters for which a review was not requested and that received a separate rate in a prior segment of this proceeding, the cash deposit rate will continue to be the existing exporter-specific rate; (3) for all Vietnamese exporters of subject merchandise that have not been found to be entitled to a separate rate, the cash deposit rate will be the rate for the Vietnam-wide entity (i.e., 90.8 percent); and (4) for all non-Vietnamese exporters of subject merchandise that have not received their own rate, the cash deposit rate will be the rate applicable to the Vietnamese exporter that supplied that non-Vietnamese exporter. These cash deposit requirements, when imposed, shall remain in effect until further notice.

Final Results of Review

Unless otherwise extended, Commerce intends to issue the final results of this administrative review, which will include the results of its analysis of issues raised in case and rebuttal briefs, within 120 days of these preliminary results of review in the Federal Register, pursuant to 751(a)(3)(A) of the Act.

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

We are issuing and publishing these preliminary results in accordance with sections 751(a)(1) and 777(i)(1) of the Act, and 19 CFR 351.221(b)(4).

Dated: January 5, 2026.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Partial Recission of Administrative Review

V. Discussion of the Methodology

VI. Recommendation

[FR Doc. 2026-00597 Filed 1-13-26; 8:45 am]

BILLING CODE 3510-DS-P